DEPARTMENT OF THE INTERIOR

National Park Service

[NPS-WASO-NAGPRA-20457; PPWOCRADN0-PCU00RP14.R50000]

Notice of Inventory Completion: Kamehameha Schools and University of Hawai'i at Hilo, Hilo, HI

AGENCY: National Park Service, Interior.

ACTION: Notice.

SUMMARY: The Kamehameha Schools and University of Hawai'i at Hilo have completed an inventory of human remains, in consultation with the appropriate Indian tribes or Native Hawaiian organizations, and have determined that there is a cultural affiliation between the human remains and present-day Indian tribes or Native Hawaiian organizations. Lineal descendants or representatives of any Indian tribe or Native Hawaiian organization not identified in this notice that wish to request transfer of control of these human remains should submit a written request to the Kamehameha Schools. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Kamehameha Schools, at the address in this notice by April 29, 2016.

ADDRESSES: Jason Jeremiah, Senior Manager, Cultural Resources, Community Engagement & Resources Group, Kamehameha Schools, 567 South King Street, Suite 200, Honolulu, HI 96813, telephone (808) 523-6200.

SUPPLEMENTARY INFORMATION: Notice is here given in accordance with the Native American Graves Protection and Repatriation Act (NAGPRA), 25 U.S.C. 3003, of the completion of an inventory of human remains under the control of the Kamehameha Schools and in the physical custody of the University of Hawai'i at Hilo. The human remains were removed from Pakini Iki, Ka'ū District, Hawai'i Island, Ka'ū District, Hawai'i Island.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the professional staff of Kamehameha Schools and University of Hawai'i at Hilo, in consultation with representatives of Aha Moku Advisory Committee; Department of Hawaiian Homelands; the Hawaiian Civic Club of Ka'ū; the Hawai'i Island Burial Council; Hui Malama i Nā Kūpuna o Hawai'i Nei; the Kamehameha Schools (Landowners and NHO); and the Office of Hawaiian Affairs.

History and Description of the Remains

Between 1955 and 1957, human remains representing, at minimum, two individuals were removed from Waiahukini Rockshelter Site in Ka'ū, Hawai'i Island, HI, which are on lands belonging to Kamehameha Schools (formerly Bishop Estate Trust). Excavations were under the direction of Professor William Bonk at the University of Hawai'i at Hilo (then called Hilo College) and the Bishop Museum. Three human teeth were identified in bags of midden deposit in the summer of 2014, which had been stored with the other excavated material from the site at University of Hawai'i at Hilo until the present time. No known individuals were identified. No funerary objects are present.

Although some historical era artifacts were identified in the uppermost layers of Waiahukini, the human remains were identified in midden deposits dated to the pre-Contact era.

These collections remain in the physical custody of University of Hawai'i at Hilo although control of the collections is with Kamehameha Schools.

Determinations Made by the Kamehameha Schools and University of Hawai'i at Hilo

Officials of the Kamehameha Schools and University of Hawai'i at Hilo have determined that:

• Pursuant to 25 U.S.C. 3001(9), the human remains described in this notice represent the physical remains of two individuals of Native American ancestry.

• Pursuant to 25 U.S.C. 3001(2), there is a relationship of shared group identity that can be reasonably traced between the Native American human remains and the Aha Moku Advisory Committee (Moku o Keawe), Hawaiian Civic Club of Ka'ū, Kamehameha Schools, and the Office of Hawaiian Affairs.

Additional Requestors and Disposition

Lineal descendants or representatives of any Indian tribe or Native Hawaiian organization not identified in this notice that wish to request transfer of control of these human remains should submit a written request with information in support of the request to Jason Jeremiah, Senior Manager, Cultural Resources, Community Engagement & Resources Group, Kamehameha Schools, 567 South King Street, Suite 200, Honolulu, HI 96813, telephone (808) 523-6200, by April 29, 2016. After that date, if no additional requestors have come forward, transfer of control of the human remains to the Aha Moku Advisory Committee (Moku o Keawe), the Hawaiian Civic Club of Ka'ū, Kamehameha Schools, and the Office of Hawaiian Affairs may proceed.

The Kamehameha Schools and University of Hawai'i at Hilo is responsible for notifying the Aha Moku Advisory Committee; Department of Hawaiian Homelands; the Hawaiian Civic Club of Ka'ū Hawai'i Island Burial Council; Hui Malama i Nā Kūpuna o Hawai'i Nei; Kamehameha Schools (Landowners and NHO); and the Office of Hawaiian Affairs that this notice has been published.

Dated: February 25, 2016.
Melanie O'Brien,
Manager, National NAGPRA Program.

[FR Doc. 2016-07107 Filed 3-29-16; 8:45 am]

BILLING CODE 4312-50-P